DEPARTMENT OF TRANSPORTATION

National Highway Traffic Safety Administration

[Docket No. NTHSA-2007-27505]

Federal Motor Vehicle Safety Standards: New Pneumatic Tires for Vehicles Other Than Passenger Cars

AGENCY: National Highway Traffic Safety Administration, DoT.

ACTION: Denial of petition for rulemaking.

SUMMARY: This document responds to a petition for rulemaking regarding Federal motor vehicle safety standard (FMVSS) No. 119, Pneumatic Tires for Vehicles Other Than Passenger Cars. Pacific Coast Retreaders (PCR), a distributor of new truck tires that are manufactured in China, petitioned the agency on February 1, 2006, to amend FMVSS No. 119, paragraph S5.1, Tire and rim matching information (b). Specifically, PCR petitioned the agency to accept tire load rating data for two bias ply truck tire sizes, 10-20 and 11-22.5, from the Chinese tire standardization organization Guo Biao 9744-1997 (GB 9744). NHTSA has determined that this petition is moot with regard to the 10-20 size tires because the maximum load rating labeled on these tires, in the single and dual wheel configurations, meets the requirements of FMVSS No. 119. With regard to the 11-22.5 size tires, the agency denies the request by the petitioner that FMVSS No. 119, paragraph S5.1(b) be amended to include the GB 9744 maximum load rating for this single tire size. The agency does not consider amending the standard to include the specifications of a tire standardization organization for one tire size.

FOR FURTHER INFORMATION CONTACT: Mr. Samuel Daniel, Office of Crash Avoidance Standards, NVS-122, National Highway Traffic Safety Administration, 400 Seventh Street, SW., Washington, DC 20590, telephone (202) 366-4921, facsimile (202) 366-7002, electronic mail sam.daniel@dot.gov.

SUPPLEMENTARY INFORMATION:

A. Background

PCR, a distributor of new truck tires manufactured in China, petitioned the agency on February 1, 2006, to accept the Chinese tire marking standards for two bias ply truck tire sizes, 10-20 and 11-22.5. The petitioner stated that the requirements in FMVSS No. 119, paragraph S5.1(b) are outdated and “are well behind the changes in the intermodal transportation industry.” The petitioner further stated that the Chinese tire marking standards from GB 9744 are not included in the list of marking standards referenced by NHTSA in FMVSS No. 119. However, PCR did not explicitly request that the GB 9744 publication be added to FMVSS No. 119.

The petitioner provided a copy of a page from the Chinese GB 9744 publication with information on the tire load limits at various cold inflation pressures, similar to a page of truck tire load-pressure values from the publications listed in paragraph S5.1(b) of FMVSS No. 119. The publications that are already listed are as follows: Tire and Rim Association (TRA); European Tyre and Rim Technical Organization (ETRTO); Japan Automobile Tyre Manufacturers Association, Inc. (JATMA); Deutsche Industrie Norm; British Standards Institution; Scandinavian Tire and Rim Organization (STRO); and the Tyre and Rim Association of Australia. The table on the page from the GB 9744 publication specifies a maximum load rating of 2,160 kg (4,752 pounds) for the 10-20 size tire load range F (12 ply-rated) in the dual wheel (four tires per axle) configuration. However, the Tire and Rim Association (TRA), which is the United States voluntary standards organization, in its 2005 Year Book specifies a maximum load rating of 2,180 kg (4,805 pounds) for the same tire size and configuration. The TRA publication also lists the value of the maximum load rating for the 11-22.5 size tire at 2,180 kg (4,805 pounds) for the load range F tires mounted on 15 degree drop center rims, whereas the GB 9744 document lists the value of the maximum load rating at 2,160 kg (4,752 pounds), according to the petitioner, or 20 kg pounds less than the TRA value.

The petition states that the two subject tire sizes are used in the intermodal transportation industry on dual axle, dual wheel (8 tires and rims) trailers and container chassis with a total load rating for the two axles of 15,455 kg (34,000 pounds). Based on the maximum tire load rating, the TRA maximum load capacity for eight 10-20 or 11-22.5 bias ply, load range F tires is 17,436 kg (38,440 pounds) and the maximum load capacity for eight similar tires based on the GB 9744 data obtained from the petitioner is 17,280 kg (38,016 pounds). Both load capacities are, according to the petitioner, well above the maximum allowable load limit (34,000 pounds) for the intermodal trailers and container chassis. The petitioner further stated that the small difference in maximum load rating between the GB 9744 and the TRA specifications is inconsequential to motor vehicle safety.

FMVSS No. 119 establishes the safety performance requirements for tires used on vehicles other than passenger cars. The requirements for tire endurance, strength, high speed performance, treadwear indicators, and tire markings are specified in paragraph S6 of the standard and are tested in accordance with the conditions and procedures specified in paragraph S7.

Paragraph S5.1(b) of FMVSS No. 119 lists the publications that may be used by tire manufacturers for rim matching, tire size, and maximum tire load rating with corresponding inflation pressure. Paragraph S6.6, Maximum load rating, requires that the maximum load rating labeled on a tire in accordance with paragraph S6.5, Tire markings, meet or exceed the lowest load rating value specified in the publications listed in Section 5.1(b) for that tire size.

B. Discussion

FMVSS No. 119 allows tire manufacturers to use any one of the seven publications in S5.1(b) to obtain rim, and tire load and inflation pressure information for the labeling requirements of paragraph S6.5.

The petitioner provided one page of the GB 9744 publication, which included one of the two bias ply tire sizes discussed in the petition. The agency does not recognize specifications for one or two tire sizes from a technical reference year book, but would consider recognition of an entire standardization publication.

If the organization that publishes GB 9744 would like its publication to be considered for inclusion in the list of publications in FMVSS No. 119, paragraph S5.1(b), that organization is invited to submit information to NHTSA. The type of information contained in these publications includes its membership, objectives, and the organizations that provide technical support, in addition to its tire and rim specifications. PCR submitted a petition for rulemaking requesting that GB 9744 maximum tire load ratings for two tire sizes be accepted by NHTSA. However, PCR did not indicate whether it had any communication with the organization that publishes GB 9744 prior to submitting the petition. NHTSA does not consider recognizing tire standardization organizations upon the request of tire distributors.

The petitioner believes that the agency is accepting tire markings (paragraph S6.5, Tire markings) from sources that are not on the list in paragraph S5.1(b). The agency does not accept tire maximum load ratings that do not comply with the requirements in paragraph S6.6, which state that the maximum load rating for a particular tire size must be equal to or greater than the lowest maximum load rating for that tire size published in the list of technical reference year books in paragraph S5.1(b).

C. Agency Determination

After review of the tire specifications from the sources listed in FMVSS No. 119, the Scandinavian Tire and Rim Technical Organization publication has the lowest values for the maximum load rating of the 10-20 size tire with 2,305 kg (5,071 pounds) for the single application rating and 2,120 kg (4,664 pounds) for the dual rating. The GB 9744 values for the maximum load rating for 10-20 bias ply tire, load range F, 2,465 kg (5,434 pounds) for the single rating and 2,160 kg (4,752 pounds) for the dual rating, are greater than the values specified in the Scandinavian Tire and Rim Technical Organization publication for that size tire. Tire manufacturers may label the 10-20 size tires with the GB 9744 value for the rated maximum load without violating the requirements of FMVSS No. 119, S6.6 Maximum load rating. Therefore, PCR's petition is moot with regard to the 10-20 tire size.

The Tire and Rim Association value for maximum load rating is the lowest value for 11-22.5 size tires 2,180 kg (4,805 pounds) specified in the publications listed in paragraph S5.1(b) of FMVSS No. 119. The documents forwarded to the agency by the petitioner do not include maximum load data for the 11-22.5 tire size, but NHTSA was informed by the petitioner that the 11-22.5 tire size has the same maximum load rating as the 10-20 tire size. Therefore, labeling an 11-22.5 size tire with the GB 9744 value for maximum load rating would not comply with the standard as currently written.

The PCR petition with respect to the 11-22.5 size tires is denied because the agency does not consider adding specifications for a single tire size to the accepted reference documents in paragraph S5.1(b) of FMVSS No. 119.

Issued: March 6, 2007.
Stephen R. Kratzke,
Associate Administrator for Rulemaking.

[FR Doc. E7-4301 Filed 3-9-07; 8:45 am]

BILLING CODE 4910-59-P